DEPARTMENT OF ENERGY

Federal Energy Regulatory Commission

Combined Notice of Filings #1

Take notice that the Commission received the following electric rate filings:

Docket Numbers: ER10-3196-003; ER11-2514-005.

Applicants: PEI Power II, LLC, PEI Power LLC.

Description: Notice of Change in Status of PEI Power LLC, et al.

Filed Date: 12/9/21.

Accession Number: 20211209-5207.

Comment Date: 5 p.m. ET 12/30/21.

Docket Numbers: ER21-2695-001.

Applicants: Lincoln Land Wind, LLC.

Description: Compliance filing: Compliance Filing Revising Tariff Record to be effective 12/1/2021.

Filed Date: 12/10/21.

Accession Number: 20211210-5155.

Comment Date: 5 p.m. ET 1/3/22.

Docket Numbers: ER22-95-001.

Applicants: Basin Electric Power Cooperative.

Description: Tariff Amendment: Basin Electric Submission for Extension of Time for Commission Action in ER22-95 to be effective 12/15/2021.

Filed Date: 12/10/21.

Accession Number: 20211210-5107.

Comment Date: 5 p.m. ET 1/3/22.

Docket Numbers: ER22-381-001.

Applicants: Dunns Bridge Solar Center, LLC.

Description: Tariff Amendment: Dunns Bridge Solar Center, LLC—Amendment to MBR Application (ER22-381-) to be effective 1/10/2022.

Filed Date: 12/10/21.

Accession Number: 20211210-5092.

Comment Date: 5 p.m. ET 1/3/22.

Docket Numbers: ER22-561-000.

Applicants: PJM Interconnection, L.L.C.

Description: Filing Withdrawal: Withdrawal of FA with AEP and City of Danville SA No. 2104 Docket No. ER22-563 to be effective N/A.

Filed Date: 12/10/21.

Accession Number: 20211210-5135.

Comment Date: 5 p.m. ET 1/3/22.

Docket Numbers: ER22-604-000.

Applicants: Northern Indiana Public Service Company LLC.

Description: § 205(d) Rate Filing: Filing of a CIAC Agreement to be effective 1/28/2022.

Filed Date: 12/9/21.

Accession Number: 20211209-5170.

Comment Date: 5 p.m. ET 12/30/21.

Docket Numbers: ER22-605-000.

Applicants: Northern Indiana Public Service Company LLC.

Description: § 205(d) Rate Filing: Filing of a CIAC Agreement to be effective 1/3/2022.

Filed Date: 12/9/21.

Accession Number: 20211209-5171.

Comment Date: 5 p.m. ET 12/30/21.

Docket Numbers: ER22-606-000.

Applicants: Niagara Mohawk Power Corporation, New York Independent System Operator, Inc.

Description: § 205(d) Rate Filing: Niagara Mohawk Power Corporation submits tariff filing per 35.13(a)(2)(iii: 205 Filing CRA between NMPC-NYPA SA No. 2669 to be effective 10/20/2021.

Filed Date: 12/10/21.

Accession Number: 20211210-5018.

Comment Date: 5 p.m. ET 1/3/22.

Docket Numbers: ER22-607-000.

Applicants: MidAmerican Central California Transco, LLC.

Description: § 205(d) Rate Filing: 2021 Annual TRBAA Update Filing to be effective 1/1/2022.

Filed Date: 12/10/21.

Accession Number: 20211210-5068.

Comment Date: 5 p.m. ET 1/3/22.

Docket Numbers: ER22-608-000.

Applicants: American Transmission Systems, Incorporated, PJM Interconnection, L.L.C.

Description: § 205(d) Rate Filing: American Transmission Systems, Incorporated submits tariff filing per 35.13(a)(2)(iii: ATSI submits two ECSAs, SA Nos. 6139 and 6140 to be effective 2/9/2022.

Filed Date: 12/10/21.

Accession Number: 20211210-5095.

Comment Date: 5 p.m. ET 1/3/22.

Docket Numbers: ER22-609-000.

Applicants: Mid-Atlantic Interstate Transmission, LLC, PJM Interconnection, L.L.C.

Description: § 205(d) Rate Filing: Mid-Atlantic Interstate Transmission, LLC submits tariff filing per 35.13(a)(2)(iii: MAIT submits four ECSAs, SA Nos. 6136-6138 & 6141 to be effective 2/9/2022.

Filed Date: 12/10/21.

Accession Number: 20211210-5102.

Comment Date: 5 p.m. ET 1/3/22.

Docket Numbers: ER22-610-000.

Applicants: PPL Electric Utilities Corporation, PJM Interconnection, L.L.C.

Description: § 205(d) Rate Filing: PPL Electric Utilities Corporation submits tariff filing per 35.13(a)(2)(iii: PPL Electric submits SA No. 6263 to be effective 12/11/2021.

Filed Date: 12/10/21.

Accession Number: 20211210-5111.

Comment Date: 5 p.m. ET 1/3/22.

Docket Numbers: ER22-611-000.

Applicants: Wildcat I Energy Storage, LLC.

Description: § 205(d) Rate Filing: Revised Wildcat I Energy Storage Market Based Rate Tariff to be effective 12/11/2021.

Filed Date: 12/10/21.

Accession Number: 20211210-5114.

Comment Date: 5 p.m. ET 1/3/22.

Docket Numbers: ER22-612-000.

Applicants: The Narragansett Electric Company.

Description: Tariff Amendment: Notice of Cancellation of CRA with CV South Street Landing LLC to be effective 2/9/2022.

Filed Date: 12/10/21.

Accession Number: 20211210-5116.

Comment Date: 5 p.m. ET 1/3/22.

Docket Numbers: ER22-613-000.

Applicants: PJM Interconnection, L.L.C.

Description: § 205(d) Rate Filing: Original WMPA, SA No. 6231; Queue No. AG2-392 to be effective 11/11/2021.

Filed Date: 12/10/21.

Accession Number: 20211210-5127.

Comment Date: 5 p.m. ET 1/3/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2021.
Debbie-Anne A. Reese,
Deputy Secretary.

[FR Doc. 2021-27242 Filed 12-15-21; 8:45 am]

BILLING CODE 6717-01-P